DEPARTMENT OF COMMERCE

National Oceanic and Atmospheric Administration

50 CFR Part 679

[Docket No. 011218304-1304-01; I.D. 060702A]

Fisheries of the Exclusive Economic Zone Off Alaska; Pacific Cod by Catcher Vessels Less Than 60 ft (18.3 m) Length Overall Using Pot Gear in the Bering Sea and Aleutian Islands

AGENCY: National Marine Fisheries Service (NMFS), National Oceanic and Atmospheric Administration (NOAA), Commerce.

ACTION: Closure.

SUMMARY: NMFS is prohibiting directed fishing for Pacific cod by catcher vessels less than 60 ft (18.3 m) length overall (LOA) using pot gear in the Bering Sea and Aleutian Islands management area (BSAI). This action is necessary to prevent exceeding the 2002 total allowable catch (TAC) of Pacific cod allocated to catcher vessels using hook-and-line or pot gear in this area. Pursuant to 50 CFR 679.20(a)(7)(i)(C)(5)(i), Pacific cod catch by catcher vessels less than 60 ft (18.3 m) LOA using hook-and-line gear presently accrues to the allocation for catcher vessels using hook-and-line gear specified at 50 CFR 679.20(a)(7)(i)(C)(1)(ii).

DATES: Effective 1200 hrs, Alaska local time (A.l.t.), June 11, 2002, until 2400 hrs, A.l.t., September 1, 2002.

FOR FURTHER INFORMATION CONTACT: Mary Furuness, 907-586-7228.

SUPPLEMENTARY INFORMATION: NMFS manages the groundfish fishery in the BSAI according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

The 2002 Pacific cod TAC allocated to catcher vessels less than 60 ft (18.3 m) LOA using hook-and-line or pot gear in the BSAI is 1,314 metric tons (mt) as established by an emergency rule implementing 2002 harvest specifications and associated management measures for the groundfish fisheries off Alaska (67 FR 956, January 8, 2002).

In accordance with § 679.20(d)(1)(iii), the Administrator, Alaska Region, NMFS (Regional Administrator), has determined that the 2002 Pacific cod TAC allocated as a directed fishing allowance to catcher vessels less than 60 ft (18.3 m) LOA using hook-and-line or pot gear in the BSAI will soon be reached. Consequently, NMFS is prohibiting directed fishing for Pacific cod by catcher vessels less than 60 ft (18.3 m) LOA using pot gear in the BSAI. Directed fishing for Pacific cod by vessels 60 ft (18.3 m) LOA and greater using pot gear was closed on March 16, 2002, when catch amounts reached the A season allowance of Pacific cod specified for these vessels. Pursuant to 50 CFR 679.20(a)(7)(i)(C)(4)(ii), at that time the allowance of Pacific cod for catcher vessels less than 60 ft (18.3 m) LOA using hook-and-line or pot gear became available to catch vessels less than 60 ft (18.3 m) LOA using pot gear. On September 1, 2002, the directed fishery for Pacific cod again opens for vessels using pot gear, which will include catcher vessels less than 60 ft (18.3 m) LOA. Pursuant to 50 CFR 679.20(a)(7)(i)(C)(5)(i), Pacific cod catch by catcher vessels less than 60 ft (18.3 m) LOA using hook-and-line gear presently accrues to the allocation for catcher vessels using hook-and-line gear specified at 50 CFR 679.20(a)(7)(i)(C)(1)(ii).

Maximum retainable bycatch amounts may be found in the regulations at § 679.20(e) and (f).

Classification

This action responds to the best available information recently obtained from the fishery. The Assistant Administrator for Fisheries, NOAA, finds good cause to waive the requirement to provide prior notice and opportunity for public comment pursuant to the authority set forth at 5 U.S.C. 553(b)(B) as such requirement is contrary to the public interest. This requirement is contrary to the public interest as it would delay the closure of the fishery, lead to exceeding the TAC, and therefore reduce the public's ability to use and enjoy the fishery resource.

The Assistant Administrator for fisheries, NOAA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: June 10, 2002.
John H. Dunnigan,
Director. Office of Sustainable Fisheries, National Marine Fisheries Service.

[FR Doc. 02-14957 Filed 6-10-02; 2:40 pm]

BILLING CODE 3510-22-S